FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011574-011.

Title: Pacific Islands Discussion Agreement.

Parties: CMA CGM, S.A.; Compagnie Maritime Marfret, S.A.; P&O Nedlloyd Limited; Hamburg-Süd; Polynesia Line Ltd.; FESCO Ocean Management Limited; and Australia-New Zealand Direct Line.

Filing Party: Wayne R. Rohde, Esq.; Sher & Blackwell; 1850 M Street, NW., Suite 900; Washington, DC 20036.

Synopsis: The amendment adds CMA CGM and Compagnie Maritime Marfret as parties to the agreement.

Agreement No.: 011648-009.

Title: APL/Crowley/Lykes/MLL Space Charter and Sailing Agreement.

Parties: American President Lines, Ltd. and APL Co. Pte. Ltd. (“APL”); Crowley Liner Services, Inc. (“CLS”); Lykes Lines Limited, LLC (“Lykes”); and TMM Lines Limited, LLC (“TMM”).

Filing Party: Wayne R. Rohde, Esq.; Sher & Blackwell, LLP; 1850 M Street NW., Suite 900; Washington, DC 20036.

Synopsis: The modification would delete CLS as a party to the agreement and delete the Gulf/Caribbean trade from the geographic scope of the agreement and related agreement provisions. Furthermore, it would adjust APL's allocation under the agreement and provide for limited future adjustments to APL's allocation, indicate that only Lykes and TMM will operate vessels under the agreement, and reduce the notice period required to withdraw from the agreement. Finally, the modification would rename and restate the agreement.

Agreement No.: 011886.

Title: HMM/MOL Space Charter Agreement.

Parties: Hyundai Merchant Marine Co., Ltd. (“HMM”) and Mitsui O.S.K. Lines, Ltd. (“MOL”).

Filing Party: Eliot J. Halperin, Esq.; Manelli Denison & Selter PLLC; 2000 M Street, NW., 7th floor; Washington, DC 20036-3307.

Synopsis: The proposed agreement would authorize MOL to charter space from HMM on HMM's vessels operating between ports in the United States and ports in China and South Korea. The parties request expedited review.

Agreement No.: 011887.

Title: Zim/CCNI Space Charter Agreement.

Parties: Zim Israel Navigation Company Ltd. and Compania Chilena de Navegacion Interoceanica.

Filing Party: Wayne R. Rohde, Esq.; Sher & Blackwell; 1850 M Street, NW., Suite 900; Washington, DC 20036.

Synopsis: The proposed agreement would authorize Zim to charter space to CCNI in the trade between the U.S. West Coast and Jamaica. The parties request expedited review.

Dated: July 23, 2004.
By Order of the Federal Maritime Commission.
Bryant L. VanBrakle,
Secretary.

[FR Doc. 04-17191 Filed 7-27-04; 8:45 am]

BILLING CODE 6730-01-P